INTERNATIONAL TRADE COMMISSION

[Investigation No. 731-TA-125 (Second Review)]

Potassium Permanganate From China

AGENCY: United States International Trade Commission.

ACTION: Revised schedule for the subject review.

DATES: February 1, 2005.

FOR FURTHER INFORMATION CONTACT: Fred Ruggles (202-205-3187 or fred.ruggles@usitc.gov), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: On January 4, 2005, the Commission established a schedule for the conduct of the subject expedited five-year review (70 FR 2428, January 13, 2005). Subsequently, on January 27, 2005, the Department of Commerce (Commerce) determined that its review is extraordinarily complicated and extended the time limit for its final results in the expedited five-year review from January 31, 2005, to not later than March 31, 2005 (70 FR 3904). The Commission, therefore, has determined to exercise its authority to extend the review period by up to 90 days pursuant to 19 U.S.C. 1675(c)(5)(B)¹ and is revising its schedule to reflect Commerce's extension of the time limit for the final results of its expedited sunset review.

¹ As a transition order five-year review, the subject review is extraordinarily complicated pursuant to section 751(c)(5)(C) of the Tariff Act of 1930.

As provided for in the Commission's original scheduling notice (70 FR 2428, January 13, 2005), final party comments concerning Commerce's final results of its expedited sunset review are due three business days after the issuance of Commerce's results.

For further information concerning this expedited review see the Commission's notice cited above and the Commission's Rules of Practice and Procedure, part 201, subparts A through E (19 CFR part 201), and part 207, subparts A and C (19 CFR part 207).

Authority: This review is being conducted under authority of title VII of the Tariff Act of 1930; this notice is published pursuant to section 207.62 of the Commission's rules.

By order of the Commission.
Issued: February 2, 2005.
Marilyn R. Abbott,
Secretary to the Commission.

[FR Doc. 05-2321 Filed 2-7-05; 8:45 am]

BILLING CODE 7020-02-P